DEPARTMENT OF COMMERCE

National Oceanic and Atmospheric Administration

[RTID 0648-XE995]

Snapper-Grouper Fishery of the South Atlantic; Exempted Fishing Permits

AGENCY: National Marine Fisheries Service (NMFS), National Oceanic and Atmospheric Administration (NOAA), Commerce.

ACTION: Notice of receipt of two applications for exempted fishing permits; request for comments.

SUMMARY: NMFS announces the receipt of two applications for exempted fishing permits (EFPs) from the Florida Fish and Wildlife Conservation Commission (FWC). If granted, the EFPs would authorize limited recreational harvest of red snapper outside of any Federal recreational season in South Atlantic Federal waters and exempt that harvest from the red snapper recreational bag and possession limits, recreational annual catch limits (ACLs), general reporting requirements for charter vessels and headboats, and accountability measures (AMs). FWC's projects are intended to test alternative recreational management strategies that could be used by the South Atlantic Fishery Management Council (Council) to reduce the number of discards of red snapper and other federally managed snapper-grouper species, create additional opportunities to participate in sustainable recreational harvest, and improve angler satisfaction.

DATES: Written comments must be received on or before July 22, 2025.

ADDRESSES: You may submit comments on the applications, identified by [NOAA-NMFS-2025-0175] by either of the following methods:

• Electronic Submission: Submit all electronic public comments via the Federal e-Rulemaking Portal. Go to https://www.regulations.gov and enter “NOAA-NMFS-2025-0175”, in the Search box. Click the “Comment” icon, complete the required fields, and enter or attach your comments.

• Mail: Submit written comments to Mary Vara, Southeast Regional Office, NMFS, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the EFP applications may be obtained from the Southeast Regional Office website at https://www.fisheries.noaa.gov/southeast/bycatch/south-atlantic-red-snapper-exempted-fishing-permits-2025-2026. This notice discusses applications 2 and 3 on the website.

FOR FURTHER INFORMATION CONTACT: Mary Vara, 727-824-5305, mary.vara@noaa.gov.

SUPPLEMENTARY INFORMATION: The EFPs are requested under the authority of the Magnuson-Stevens Fishery Conservation and Management Act (Magnuson-Stevens Act; 16 U.S.C. 1801 et seq.), and regulations at 50 CFR 600.745(b) concerning exempted fishing.

The projects described in these EFP requests are a continuation of two of several projects that NMFS funded in 2024 based on a notice of funding opportunity that NMFS published during the fall of 2023, seeking projects that would explore new approaches to better understand and reduce red snapper dead discards and increase fishing opportunities in the South Atlantic snapper-grouper fishery. NMFS noticed the EFP applications for those two FWC projects in the Federal Register (89 FR 23977, April 5, 2024) and subsequently issued the EFPs.

In 2021, a stock assessment was completed for South Atlantic red snapper (Southeast Data, Assessment, and Review (SEDAR) 73, 2021) which indicated that the South Atlantic red snapper stock was undergoing overfishing and was overfished. NMFS completed an update of the SEDAR 73 (2021) assessment in December 2024 (SEDAR 73 Update Assessment [2024]). The update assessment indicates that the stock is still experiencing overfishing, is no longer overfished, and is still rebuilding. On June 11, 2025, NMFS published in the Federal Register the final rule to implement Amendment 59 to the Fishery Management Plan for the Snapper-Grouper Fishery of the South Atlantic (90 FR 24527). Among other measures, Amendment 59 revised the fishing mortality at maximum sustainable yield proxy for determining overfishing, and as a result, the red snapper stock is no longer classified as undergoing overfishing. Discard mortality continues to be the primary source of fishing mortality, with a high number of discards coming from the recreational sector. Therefore, NMFS has identified a need for improved data to support the evaluation of alternative management strategies that could be used to reduce recreational discards of red snapper and other managed snapper-grouper species, ensure opportunities for sustainable harvest, and improve angler satisfaction.

Considering this need, the FWC has proposed two projects that would accomplish the following objectives: (1) Directly collaborate with members of the snapper-grouper recreational sector and collect catch and discard information at a representative scale within the snapper-grouper fishery; (2) Recruit recreational fishermen to test a unique snapper-grouper aggregate recreational bag limit to and its impact on reducing the magnitude of snapper-grouper regulatory discards; (3) Allow recreational fishermen in these projects to harvest red snapper outside of the Federal red snapper recreational season, accompanied by a mandatory reporting requirement and provisions for validation and proof of participation; (4) Develop a unique web-based application to record information from project participants; (5) Develop an education course required for all project participants that highlights best fishing practices, species identification, and methods to safely descend fish experiencing barotrauma; and (6) Evaluate recreational fisherman satisfaction through pre- and post-participation surveys and semi-structured interviews with project participants.

NMFS notes that this notification of receipt of applications for EFPs encompasses two FWC projects. Each of these projects is identical in project scope, purpose, and exempted Federal regulations. The primary differences between the two requested projects are location of the project and the maximum allowed number of recreational fishing trips and allowed harvest of red snapper per participant for each location.

One proposed project boundary is offshore of the east coast of Florida from the Florida/Georgia state line south to latitude 28°35.1′ North in the Atlantic Ocean (due east of the NASA Vehicle Assembly Building, Cape Canaveral, Florida). The other project boundary is offshore of the east coast of Florida from latitude 28°35.1′ North in the Atlantic Ocean (due east of the NASA Vehicle Assembly Building, Cape Canaveral, Florida) south to the Dry Tortugas, the southern boundary of the South Atlantic Fishery Management Council jurisdictional waters (50 CFR 600.105(c)). The project locations include state and Federal waters, but FWC expects that the majority of snapper-grouper harvest and fishing effort would occur in Federal waters.

The EFPs would begin on August 1, 2025, and end on September 30, 2026. FWC would solicit applications from individual recreational fishermen who would be entered into a lottery to participate in either study. The application and lottery process, both administered by FWC, would occur once every 3 months and FWC would select 100 participants for each 3-month study. Participants must be 18 years of age, and would be screened by the FWC for resource violations. Selected participants in the northern study would be referred to as the “Experimental Hot Spot Fleet” and participants in the southern study would be referred to as the “Southeast Florida Snapper Grouper Fleet.” Each selected participant would be required to hold a valid saltwater recreational fishing license issued by the State of Florida (or be state exempt), have declared themselves a Florida State Reef Fish Survey angler, and take an educational course aimed at reducing discard mortality of snapper-grouper species. The EFPs would only apply to recreational fishermen who apply for and are selected to be part of FWC's Experimental Hot Spot Fleet or Southeast Florida Snapper-Grouper Fleet. Therefore, under each EFP, for each 3-month period, FWC would be able to account for and provide NMFS with a list of participants (e.g., state license, registration of each vessel and vessel name during designated fishing trips, name of participants and contact information, etc.) to be covered under each EFP before operations begin under the EFPs.

Each participant in the Experimental Hot Spot Fishing Fleet would be able to take a maximum of three recreational fishing trips per 3-month period. Each participant in the Southeast Florida Snapper-Grouper Fleet would be able to take a maximum of two recreational fishing trips per 3-month period. At the end of the second 3-month period of the project, FWC would evaluate how many red snapper were harvested, and, if the number of red snapper harvested is below the maximum allowed per quarter (600 for the Southeast Florida Snapper-Grouper Fleet and 1,200 for the Experimental Hot Spot Fishing Fleet), then FWC would consider increasing the number of participants in a project fleet in the subsequent 3-month period by a corresponding amount of any underage in harvest.

For both fleets, participants would be permitted to harvest no more than 10 fish under a unique snapper-grouper aggregate recreational bag limit per person per day in state and Federal waters combined, including 3 red snapper for the Southeast Florida Snapper-Grouper Fleet and 4 red snapper for the Experimental Hot Spot Fleet described below. Participants would be required to stop directed snapper-grouper recreational trips once their unique aggregate snapper-grouper recreational bag limit has been reached, and they would not be allowed to target or harvest any snapper-grouper species managed by the Council for the remainder of the trip. Participants may then target other species such as coastal migratory pelagics and dolphinfish. All participants in the Experimental Hot Spot Fishing Fleet would be required to fish with a single-hook rig with a circle hook when fishing with natural bait. If approved, the EFPs would exempt recreational fishermen participating in FWC's Experimental Hot Spot Fleet or Southeast Florida Snapper-Grouper Fleet from the Federal regulations at 50 CFR 622.176(b)(1) through (b)(5)(snapper-grouper reporting regulations), 50 CFR 622.183(b)(5) (recreational sector closures for red snapper), 50 CFR 622.187(b)(9) (bag and possession limits for red snapper), and 50 CFR 622.193(y)(2) (ACLs and AMs for red snapper). The FWC is not requesting exemptions from any Federal regulations other than these. Project participants would have to abide by all fishery regulations otherwise not exempted from these studies.

Under the EFPs, the unique 10-fish snapper-grouper aggregate recreational bag limit requested by FWC is as follows:

• Up to 3 red snapper for the Experimental Hot Spot Fleet or 4 red snapper for the Southeast Florida Snapper-Grouper Fleet;

• Only 1 fish can be gag, black grouper, or scamp;

• Up to 2 fish can be red grouper, yellowfin grouper, yellowmouth grouper, coney, graysby, red hind, or rock hind;

• Only 1 fish can be red porgy, blueline tilefish, or golden tilefish;

• Only 1 fish can be greater amberjack;

• Up to 3 fish can be lesser amberjack, almaco jack, or banded rudderfish;

• Up to 5 fish can be black sea bass;

• Up to 5 fish can be gray triggerfish;

• Up to 7 fish can be grunts;

• Up to 7 fish can be Atlantic spadefish or bar jack;

• Up to 7 fish can be porgies (excluding red porgy);

• Up to 7 fish can be schoolmaster snapper, gray snapper, lane snapper, yellowtail snapper, queen snapper, silk snapper, or blackfin snapper;

• Up to 5 fish can be vermilion snapper, cubera snapper, or mutton snapper.

Until the unique snapper-grouper aggregate recreational bag limit is reached, all species within the snapper-grouper fishery, except those with regulatory closures, could be harvested by participants. Should a regulatory closure occur for any species (other than red snapper), project participants would be prohibited to harvest that species. The requested recreational bag limits within FWC's proposed 10-fish snapper-grouper aggregate bag limit do not exceed current Federal recreational bag limits for any of the included snapper-grouper species. FWC intends that this unique aggregate recreational bag limit would cause recreational fishermen to reach their daily recreational bag limit faster, which would then result in them stopping fishing for snapper-grouper species. FWC expects this to then lead to reduced discards and enhanced fisherman satisfaction across the snapper-grouper recreational sector. Throughout the duration of the proposed projects, a maximum of 4,800 South Atlantic red snapper would be allowed to be harvested over 1,200 Experimental Hot Spot Fleet trips, and a maximum of 2,400 South Atlantic red snapper would be allowed to be harvested over 800 Southeast Florida Snapper-Grouper Fleet trips.

Recreational fishermen could choose the date and time of each trip within each 3-month period of the project. Prior to taking a fishing trip, the selected participant, using their unique FWC provided identification number, must notify FWC 24 hours in advance of a planned trip and report the date and state registration number of the vessel they intend to fish from in order to receive an FWC authorization document, which must then be available to present to law enforcement if requested, either at sea or dockside. Selected participants could also elect to take their fishing trips on a charter vessel or headboat (for-hire). Aboard that for-hire vessel, only participants who have been selected to participate in an EFP and declared they are taking a trip authorized under an EFP on the identified for-hire vessel could take red snapper. As the vessel, private or for-hire, with the project participant onboard is returning to port, the participant would be required to hail in and let FWC know the estimated time and location of arrival. Upon return to port from a trip, project participants would be required to submit catch and discard data to the FWC within 48 hours through an FWC web-based application. To evaluate recreational fishermen satisfaction, FWC social scientists would conduct pre- and post-participation surveys and randomly select a subset of participants in each group to participate in semi-structured interviews.

NMFS finds the applications warrants further consideration based on a preliminary review. Possible conditions the agency may impose on the EFPs, if granted, include but are not limited to, a prohibition on fishing within marine protected areas, marine sanctuaries, or special management zones without additional authorization.

A final decision on issuance of the EFPs will depend on NMFS' review of public comments received on the applications, consultations with the appropriate fishery management agencies of the affected states, the Council, and the U.S. Coast Guard, and a determination that the activities to be taken under the EFPs are consistent with all other applicable laws.

Authority: 16 U.S.C. 1801 et seq.

Dated: July 2, 2025.
Kelly Denit,
Director, Office of Sustainable Fisheries, National Marine Fisheries Service.

[FR Doc. 2025-12596 Filed 7-3-25; 8:45 am]

BILLING CODE 3510-22-P